SURFACE TRANSPORTATION BOARD

[Docket No. AB 507 (Sub-No. 2X)]

Florida Northern Railroad Company, Inc.—Discontinuance of Service Exemption—in Marion County, Fla.

Florida Northern Railroad Company, Inc. (Florida Northern) ¹ has filed a verified notice of exemption under 49 CFR pt. 1152 subpart F—Exempt Abandonments and Discontinuances of Service to discontinue service over an approximately 5.3-mile rail line from milepost 756.8 in Lowell, to milepost 762.1 in Zuber, in Marion County, Fla. (the Line).² The Line traverses U.S. Postal Service Zip Codes 34482, 32686, and 34475.

¹ Florida Northern is a wholly owned subsidiary of Pinsly Railroad Company, a noncarrier holding company, which also controls three other Class III rail carriers in Florida and Massachusetts. See Pinsly R.R.—Continuance in Control Exemption—Fla. N. R.R., FD 31369 (ICC served Dec. 21, 1988).

² According to Florida Northern, it operates “approximately 88 miles of rail line” and “commenced operations in 1988 after acquiring two lines (including a portion of the line over which service is to be discontinued).” (Notice of Exemption 2); see also Fla. N. R.R.—Acquis. & Operation Exemption—Certain Rail Lines of CSX Transp., Inc., FD 31368 (ICC served Dec. 21, 1988).

Florida Northern has certified that: (1) No local traffic has moved over the Line for at least two years; (2) there is no overhead traffic to be rerouted over other lines; (3) no formal complaint filed by a user of rail service on the Line (or by a state or local government entity acting on behalf of such user) regarding cessation of service over the Line is pending either with the Surface Transportation Board (Board) or with any U.S. District Court or has been decided in favor of the complainant within the two-year period; and (4) the requirements at 49 CFR 1105.12 (newspaper publication) and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) to subsidize continued rail service has been received, this exemption will be effective on November 2, 2016, unless stayed pending reconsideration. Petitions to stay that do not involve environmental issues and formal expressions of intent to file an OFA to subsidize continued rail service under 49 CFR 1152.27(c)(2) ³ must be filed by October 13, 2016.⁴ Petitions to reopen must be filed by October 21, 2016, with the Surface Transportation Board, 395 E Street SW., Washington, DC 20423-0001.

³ Each OFA must be accompanied by the filing fee, which is currently set at $1,600. See 49 CFR 1002.2(f)(25).

⁴ Because this is a discontinue proceeding and not an abandonment, interim trail use/rail banking and public use conditions are not appropriate. Because there will be an environmental review during abandonment, this discontinuance does not require an environmental review.

A copy of any petition filed with the Board should be sent to Florida Northern's representative: Audrey L. Brodrick, Fletcher & Sippel LLC, 29 North Wacker Drive, Suite 920, Chicago, IL 60606.

If the verified notice contains false or misleading information, the exemption is void ab initio.

Board decisions and notices are available on our Web site at “WWW.STB.GOV.”

Decided: September 27, 2016.
By the Board, Rachel D. Campbell, Director, Office of Proceedings.
Tia Delano,
Clearance Clerk.

[FR Doc. 2016-23727 Filed 9-30-16; 8:45 am]

BILLING CODE 4915-01-P